DEPARTMENT OF LABOR

Employment and Training Administration Submission for OMB

Emergency Review: Revision of OMB, 1205-0392, Trade Act Participant Report (TAPR), Comment Request

July 17, 2009.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by August 7, 2009. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—ETA, Office of Management and Budget, Room 10235, Washington, DC 20503, Telephone: 202-395-5806/Fax: 202-395-6974 (these are not toll-free numbers), E-mail: OIRA_submission@omb.eop.gov. Comments and questions about the ICR listed below should be received 5 days prior to the requested OMB approval date.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employment and Training Administration.

Title of Collection: “Trade Act Participant Report”.

OMB Control Number: 1205-0392.

Frequency of Collection: Quarterly.

Affected Public: State, Local or Tribal Governments.

Estimated Time per Respondent: 47.5 hours per quarterly submission.

Total Estimated Number of Respondents: 50.

Total Estimated Annual Burden Hours: 9,500 hours.

Total Estimated Annual Cost Burden: $0.

Description: On February 17, 2009, the President signed the Trade and Globalization Adjustment Assistance Act of 2009 (TGAAA) which amended the Trade Act of 1974, including the provision of new data collection requirements on TAA participant activities and outcomes. The proposed revision of OMB 1205-0392 “Trade Act Participant Report” is designed to provide a single integrated collection format that will meet new reporting requirements listed in amendments to the Trade Act of 1974 (19 U.S.C. 2311 and 2323) through TGAAA, which is part of the American Recovery and Reinvestment Act (ARRA). The new law provided an extensive list of newly mandated data requirements that included specific data elements, display of data according to select criteria, performance measures, and control measures designed to enforce data reliability and validity on TAA program participation and outcome data.

Why are we requesting Emergency Processing? This collection is submitted on an emergency clearance basis, because ARRA (Section 1891) mandates the implementation of these new criteria reporting, listed in 19 U.S.C. 2323 et seq., as amended, by August 17, 2009.

Darrin A. King,
Departmental Clearance Officer.

[FR Doc. E9-17774 Filed 7-24-09; 8:45 am]

BILLING CODE 4510-FN-P